FEDERAL TRADE COMMISSION

Granting of Requests for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted August 1, 2019 thru August 31, 2019
08/02/2019
20191445 | G | Sonoco Products Company; MDCP VII-A Global Investments LP; Sonoco Products Company.
20191715 | G | Ontario Power Generation Inc.; ISQ Hydro Aggregator LLC; Ontario Power Generation Inc.
20191716 | G | One Rock Capital Partners II, LP; Actuant Corporation; One Rock Capital Partners II, LP.
20191721 | G | Tinicum L.P.; Platte River Ventures II, L.P.; Tinicum L.P.
20191722 | G | The Baring Asia Private Equity Fund VII, L.P.; CitiusTech Healthcare Technology Private Limited; The Baring Asia Private Equity Fund VII, L.P.
20191726 | G | Etsy, Inc.; David A. Kalt; Etsy, Inc.
20191729 | G | Dot Family Holdings, LLC; The 2015 Siegfried Family Trust; Dot Family Holdings, LLC.
20191730 | G | AEA Investors Fund VII LP; Big Jack Ultimate Holdings LP; AEA Investors Fund VII LP.
20191745 | G | Aquiline Financial Services Fund IV L.P.; North Haven CA Aggregator, LLC; Aquiline Financial Services Fund IV L.P.
20191746 | G | CIP Capital Fund II, L.P.; Stephen Anderson; CIP Capital Fund II, L.P.
08/05/2019
20191734 | G | Twin River Worldwide Holdings, Inc.; Eldorado Resorts, Inc.; Twin River Worldwide Holdings, Inc.
20191736 | G | MIP IV US REIT AIV LP; Riva Capital Partners III, L.P.; MIP IV US REIT AIV LP.
20191737 | G | Silver Lake Alpine, L.P.; PSG PS Co-Investors L.P.; Silver Lake Alpine, L.P.
20191739 | G | Blackstone Capital Partners VII L.P.; Vungle, Inc.; Blackstone Capital Partners VII L.P.
08/06/2019
20190526 | G | Boston Scientific Corporation; BTG plc; Boston Scientific Corporation.
20191705 | G | Sierra Pacific Land & Timber Company; Fruit Growers Supply Company; Sierra Pacific Land & Timber Company.
20191720 | G | Temasek Holdings (Private) Limited; RRJ Management (HK) Limited; Temasek Holdings (Private) Limited.
20191738 | G | Gilead Sciences, Inc.; Galapagos NV; Gilead Sciences, Inc.
20191740 | G | Synthomer plc; OMNOVA Solutions Inc.; Synthomer plc.
20191742 | G | Callon Petroleum Company; Carrizo Oil & Gas, Inc.; Callon Petroleum Company.
20191744 | G | Letterone Investment Holdings S.A.; Infiana Investment S.a.r.l.; Letterone Investment Holdings S.A.
20191747 | G | TA XIII-A, L.P.; Lightyear Fund III AIV-3, L.P.; TA XIII-A, L.P.
20191760 | G | Zoetis Inc.; Susan Herthel; Zoetis Inc.
08/07/2019
20191749 | G | Zoetis Inc.; Mark Herthel; Zoetis Inc.
08/08/2019
20191669 | G | NorthShore University HealthSystem; The Evangelical Covenant Church; NorthShore University HealthSystem.
08/09/2019
20191637 | G | James A. Ratcliffe; Ashland Global Holdings Inc.; James A. Ratcliffe.
20191708 | G | CIP Capital Fund II, L.P.; Anthony J. DiBarnaba; CIP Capital Fund II, L.P.
20191723 | G | Chamath Palihapitiya; Richard Branson; Chamath Palihapitiya.
20191724 | G | Chamath Palihapitiya; Richard Branson; Chamath Palihapitiya.
20191748 | G | Piper Jaffray Companies; SOP Holdings, LLC; Piper Jaffray Companies.
20191758 | G | Sentinel Capital Partners VI, L.P.; Shawn M. Garber, M.D.; Sentinel Capital Partners VI, L.P.
20191762 | G | Koch Industries, Inc.; Ibotta, Inc.; Koch Industries, Inc.
20191763 | G | ICH Investment Holdings, L.P.; InnovaCare, Inc.; ICH Investment Holdings, L.P.
20191764 | G | Ally Financial Inc.; Credit Services Corporation, LLC; Ally Financial Inc.
20191765 | G | Kjeld Kirk Kristiansen; Merlin Entertainments plc; Kjeld Kirk Kristiansen.
20191766 | G | Softbank Group Corp.; Berkshire Grey, Inc.; Softbank Group Corp.
20191768 | G | Capgemini SE; Altran Technologies S.A.; Capgemini SE.
20191769 | G | PPG Industres, Inc.; Sverica International Investment Fund III, L.P.; PPG Industres, Inc.
20191775 | G | Blue Point Capital Partners IV, L.P.; Denis B. Brady; Blue Point Capital Partners IV, L.P.
20191781 | G | Yellow Wood Capital Partners II, L.P.; Bayer AG; Yellow Wood Capital Partners II, L.P.
20191782 | G | Stratose Aggregator, L.P.; Columbus Capital III, LLC; Stratose Aggregator, L.P.
20191784 | G | Columbus Capital III, LLC; Stratose Aggregator, L.P.; Columbus Capital III, LLC.
20191788 | G | Apax Digital L.P.; Pamlico Capital III, LP; Apax Digital L.P.
20191789 | G | Providence Equity Partners VIII-A L.P.; Jorge Ellis; Providence Equity Partners VIII-A L.P.
08/12/2019
20191776 | G | ACM Fund II, LLC; Stanley A. Firestone; ACM Fund II, LLC.
08/13/2019
20191774 | G | New Jersey Resources Corporation; Riverstone Global Energy and Power Fund V (FT), L.P.; New Jersey Resources Corporation.
08/15/2019
20191699 | G | Roper Technologies, Inc.; Robert D. Mattlin; Roper Technologies, Inc.
08/16/2019
20191770 | G | Gerald W. Schwartz; WestJet Airlines Ltd.; Gerald W. Schwartz.
20191771 | G | IBW Industriebeteiligungen Worms GmbH & Co. KGKG; JM Holding GmbH & Co. KGaA; IBW Industriebeteiligungen Worms GmbH & Co. KGKG.
20191772 | G | Anja Fischer; JM Holding GmbH & Co. KGaA; Anja Fischer.
20191793 | G | Adventist Health System/West; Daniel Buettner; Adventist Health System/West.
20191803 | G | Jollibee Foods Corporation; Newco LLC; Jollibee Foods Corporation.
20191804 | G | EQT Camera Side Car (No.1) SCSp; Bison Parent, LLC; EQT Camera Side Car (No.1) SCSp.
20191805 | G | Entrepreneurial Equity Partners Fund I, L.P.; Vlado and Flavia Dukcevich; Entrepreneurial Equity Partners Fund I, L.P.
20191808 | G | Kuvare Holdings LP; RL LP; Kuvare Holdings LP.
20191812 | G | Sterling Investment Partners III, L.P.; Great Range Capital Fund I, L.P.; Sterling Investment Partners III, L.P.
20191813 | G | Pernod Ricard S.A.; Firestone & Robertson Spirits, LLC; Pernod Ricard S.A.
20191814 | G | HGGC Fund III-A, L.P.; Monotype Imaging Holdings Inc.; HGGC Fund III-A, L.P.
20191821 | G | BCEC—GW Holdings (Guernsey) L.P.; Honos Luxembourg Holdings S.a.r.l.; BCEC—GW Holdings (Guernsey) L.P.
20191822 | G | Tailwind Capital Partners III, L.P.; STG IV (Cayman), L.P.; Tailwind Capital Partners III, L.P.
20191824 | G | CVC Capital Partners VII (A) L.P.; BBA Aviation plc; CVC Capital Partners VII (A) L.P.
20191825 | G | Bain Capital Europe Fund V, SCSp; WPP plc; Bain Capital Europe Fund V, SCSp
20191827 | G | New Mountain Partners V, L.P.; Arlington Capital Partners III, L.P.; New Mountain Partners V, L.P.
08/19/2019
20191807 | G | Roper Technologies, Inc.; iPipeline Holdings, Inc.; Roper Technologies, Inc.
20191816 | G | Orion US Holdings 1 L.P.; AltaGas Ltd.; Orion US Holdings 1 L.P.
08/20/2019
20190659 | G | Nexstar Media Group, lnc.; Tribune Media Company; Nexstar Media Group, lnc.
20191790 | G | New Mountain Partners V (AIV-D), L.P.; Tracy A. Wade; New Mountain Partners V (AIV-D), L.P.
20191791 | G | New Mountain Partners V (AIV-D), L.P.; Linda M. Fotheringill; New Mountain Partners V (AIV-D), L.P.
20191826 | G | Genstar Capital Partners IX, L.P.; Worldwide Facilities Holdings, LLC; Genstar Capital Partners IX, L.P.
08/23/2019
20191829 | G | CVC Capital Partners VII (A) L.P.; Robert Bosch Industrietreuhand KG; CVC Capital Partners VII (A) L.P.
20191834 | G | Assured Guaranty Ltd.; Affiliated Managers Group, Inc.; Assured Guaranty Ltd.
20191835 | G | Genstar Capital Partners IX, L.P.; Primus Capital Fund VII, LP; Genstar Capital Partners IX, L.P.
20191837 | G | Eurazeo SE; Thoma Bravo Discover Fund, L.P.; Eurazeo SE.
20191838 | G | Genstar IX AIV, L.P.; Providence Equity Partners VII OEConnection L.P.; Genstar IX AIV, L.P.
20191840 | G | Fox Corporation; Credible Labs Inc.; Fox Corporation.
20191841 | G | TPG Growth III (A), L.P.; Larry J. Courtnage; TPG Growth III (A), L.P.
20191842 | G | Windjammer Senior Equity Fund V, L.P.; BP HH Holdings LLC; Windjammer Senior Equity Fund V, L.P.
20191843 | G | The Cheesecake Factory Incorporated; Samuel W. Fox; The Cheesecake Factory Incorporated.
20191844 | G | Antin IV Finco Sarl.; Veolia Environnement S.A.; Antin IV Finco Sarl.
20191845 | G | EFR Group Holdings S.a.r.l.; Cumberland Farms, Inc.; EFR Group Holdings S.a.r.l.
20191846 | G | salesforce.com, inc.; Optimizer CaymanCo Limited; salesforce.com, inc.
20191852 | G | Tenex Capital Partners II, L.P.; Quad-C Partners VIII, L.P.; Tenex Capital Partners II, L.P.
20191853 | G | Chemed Corporation; ORIX Corporation; Chemed Corporation.
20191861 | G | Cornell Capital Partners LP; Southfield Vanguard Investment LP; Cornell Capital Partners LP.
08/27/2019
20191866 | G | TSG8 L.P.; Carousel Capital Partners IV, L.P.; TSG8 L.P.
08/28/2019
20191851 | G | Glaukos Corporation; Avedro, Inc.; Glaukos Corporation.
08/30/2019
20191644 | G | Carlyle Partners VII Cayman, L.P.; Onex Partners III LP; Carlyle Partners VII Cayman, L.P.
20191865 | G | Lovell Minnick Equity Partners V LP; InsideRE Holdings, LLC; Lovell Minnick Equity Partners V LP.
20191875 | G | MarketAxess Holdings Inc.; David Rutter; MarketAxess Holdings Inc.
20191876 | G | Intact Financial Corporation; Maureen Cowan; Intact Financial Corporation.
20191881 | G | Broadcom Inc.; Symantec Corporation; Broadcom Inc.
20191883 | G | Wayne Quasha; Steven M. Menzies; Wayne Quasha.
20191884 | G | Steven M. Menzies; Berkshire Hathaway, Inc.; Steven M. Menzies.
20191885 | G | Axar Special Opportunity Fund V LLC; The J.G. Wentworth Company; Axar Special Opportunity Fund V LLC.
20191890 | G | Aflac Incorporated; Nicholas M. Kavouklis; Aflac Incorporated.
20191892 | G | Siemens Aktiengesellschaft; Corindus Vascular Robotics, Inc.; Siemens Aktiengesellschaft.
20191898 | G | New Mountain Partners V, L.P.; New Mountain Partners V (AIV-C), L.P.; New Mountain Partners V, L.P.

For Further Information Contact: Theresa Kingsberry (202-326-3100), Program Support Specialist, Federal Trade Commission Premerger Notification Office, Bureau of Competition, Room CC-5301, Washington, DC 20024.

By direction of the Commission.
April Tabor,
Acting Secretary.

[FR Doc. 2019-19888 Filed 9-13-19; 8:45 am]

BILLING CODE 6750-01-P